DEPARTMENT OF ENERGY

Western Area Power Administration

Pacific Northwest-Pacific Southwest Intertie Project and Parker-Davis Project—Rate Order No. WAPA-210

AGENCY: Western Area Power Administration, DOE.

ACTION: Notice of rate order extending transmission and firm electric service rates.

SUMMARY: The extension of the Desert Southwest Region's (DSW) existing transmission service rates for the Pacific Northwest-Pacific Southwest Intertie Project (Intertie) and the existing transmission and firm electric service formula rates for the Parker-Davis Project (PDP) have been confirmed, approved, and placed into effect on an interim basis. The existing rates under Rate Schedules INT-FT5, INT-NFT4, PD-F7, PD-FT7, PD-FCT7, and PD-NFT7 are set to expire on September 30, 2023. This rate extension makes no changes to the existing rates and extends them through September 30, 2024.

DATES: The extended rates under Rate Schedules INT-FT5, INT-NFT4, PD-F7, PD-FT7, PD-FCT7, and PD-NFT7 will be placed into effect on an interim basis on October 1, 2023.

FOR FURTHER INFORMATION CONTACT: Jack D. Murray, Regional Manager, Desert Southwest Region, Western Area Power Administration, P.O. Box 6457, Phoenix, AZ 85005-6457, or Tina Ramsey, Rates Manager, Desert Southwest Region, Western Area Power Administration, (602) 605-2565, or email: dswpwrmrk@wapa.gov.

SUPPLEMENTARY INFORMATION: Western Area Power Administration (WAPA) published a Federal Register notice (Proposed FRN) on June 23, 2023 (88 FR 41101), proposing to extend the existing Intertie transmission service rates and the existing PDP transmission and firm electric service formula rates under Rate Schedules INT-FT5, INT-NFT4, PD-F7, PD-FT7, PD-FCT7, and PD-NFT7. The Proposed FRN also initiated a 30-day public consultation and comment period.

Legal Authority

By Delegation Order No. S1-DEL-RATES-2016, effective November 19, 2016, the Secretary of Energy delegated: (1) the authority to develop power and transmission rates to the WAPA Administrator; (2) the authority to confirm, approve, and place such rates into effect on an interim basis to the Deputy Secretary of Energy; and (3) the authority to confirm, approve, and place into effect on a final basis, or to remand or disapprove such rates, to FERC. By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator. This extension is issued under Redelegation Order No. S3-DEL-WAPA1-2023 and Department of Energy rate extension procedures set forth in 10 CFR part 903.¹

¹ 50 FR 37835 (Sept. 18, 1985) and 84 FR 5347 (Feb. 21, 2019).

Following review of DSW's proposal, Rate Order No. WAPA-210 is hereby confirmed, approved, and placed into effect on an interim basis. This extends, without adjustment, the existing Rate Schedules INT-FT5, INT-NFT4, PD-F7, PD-FT7, PD-FCT7, and PD-NFT7 through September 30, 2024. WAPA will submit Rate Order No. WAPA-210 and the extended rate schedules to FERC for confirmation and approval on a final basis.

Department of Energy Administrator, Western Area Power Administration

In the Matter of: Western Area Power Administration Extension for the Pacific Northwest-Pacific Southwest Intertie Project Transmission Service Rates and Parker-Davis Project Firm Electric Service and Transmission Service Formula Rates, Rate Order No. WAPA-210.

Order Confirming, Approving, and Placing Rates for the Pacific Northwest-Pacific Southwest Intertie Project and Formula Rates for the Parker-Davis Project Into Effect on an Interim Basis

The rates in Rate Order No. WAPA-210 are established in accordance with section 302 of the Department of Energy (DOE) Organization Act (42 U.S.C. 7152).¹

¹ This Act transferred to, and vested in, the Secretary of Energy the power marketing functions of the Secretary of the Department of the Interior and the Bureau of Reclamation (Reclamation) under the Reclamation Act of 1902 (ch. 1093, 32 Stat. 388), as amended and supplemented by subsequent laws, particularly section 9(c) of the Reclamation Project Act of 1939 (43 U.S.C. 485h(c)); and other acts that specifically apply to the projects involved.

By Delegation Order No. S1-DEL-RATES-2016, effective November 19, 2016, the Secretary of Energy delegated: (1) the authority to develop power and transmission rates to the Western Area Power Administration (WAPA) Administrator; (2) the authority to confirm, approve, and place such rates into effect on an interim basis to the Deputy Secretary of Energy; and (3) the authority to confirm, approve, and place into effect on a final basis, or to remand or disapprove such rates, to FERC. By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator. This extension is issued under Redelegation Order No. S3-DEL-WAPA1-2023 and DOE rate extension procedures set forth in 10 CFR part 903.²

² 50 FR 37835 (Sept. 18, 1985) and 84 FR 5347 (Feb. 21, 2019).

Background

Intertie Project Transmission Service

On August 22, 2013, FERC approved and confirmed Rate Schedules INT-FT5 and INT-NFT4 under Rate Order No. WAPA-157 on a final basis for a 5-year period through April 30, 2018.³ WAPA's Administrator subsequently approved the use of the existing Intertie transmission service rates for short-term sales for the period between May 1, 2018, and October 31, 2018, or the date the extension of the Intertie transmission service rates went into effect, whichever occurred first. On September 11, 2018, the Deputy Secretary of Energy approved the extension of the Intertie transmission service rates on an interim basis.⁴ On December 3, 2018, FERC approved and confirmed the extension of Rate Schedules INT-FT5 and INT-NFT4 under Rate Order No. WAPA-181 on a final basis for a two-year period through September 30, 2020.⁵ On March 2, 2021, FERC approved and confirmed the extension of Rate Schedules INT-FT5 and INT-NFT4 under Rate Order No. WAPA-192 on a final basis for a 3-year period through September 30, 2023.⁶

³ Order Confirming and Approving Rate Schedules on a Final Basis, FERC Docket No. EF13-4-000.

⁴ 83 FR 47921 (Sept. 21, 2018).

⁵ Order Confirming and Approving Rate Schedules on a Final Basis, FERC Docket No. EF18-5-000.

⁶ Order Confirming and Approving Rate Schedules on a Final Basis, FERC Docket No. EF20-9-000.

DSW is extending the existing Intertie transmission service rates under Rate Schedules INT-FT5 and INT-NFT4 for one year, through September 30, 2024. The existing rates provide sufficient revenue to pay all annual costs, including interest expense, and repay investment within the allowable period consistent with the cost recovery criteria set forth in Department of Energy (DOE) Order RA 6120.2.

Parker-Davis Project Transmission and Firm Electric Service

On September 18, 2014, FERC approved and confirmed Rate Schedules PD-F7, PD-FT7, PD-FCT7, and PD-NFT7 under Rate Order No. WAPA-162 on a final basis for a 5-year period through September 30, 2018.⁷ On January 31, 2019, FERC approved and confirmed the extension of Rate Schedules PD-F7, PD-FT7, PD-FCT7, and PD-NFT7 under Rate Order No. WAPA-184 on a final basis for a 5-year period through September 30, 2023.⁸

⁷ Order Confirming and Approving Rate Schedules on a Final Basis, FERC Docket No. EF14-4-000.

⁸ Order Confirming and Approving Rate Schedules on a Final Basis, FERC Docket No. EF19-1-000.

DSW is extending the existing PDP transmission and firm electric service formula rates under Rate Schedules PD-F7, PD-FT7, PD-FCT7, and PD-NFT7 for a one-year period, through September 30, 2024. The existing formula rates provide sufficient revenue to pay all annual costs, including interest expense, and repay investment within the allowable period consistent with the cost recovery criteria set forth in DOE Order RA 6120.2.

Discussion

In accordance with 10 CFR 903.23(a), DSW filed a notice in the Federal Register on June 23, 2023, proposing to extend, without adjustment, Rate Schedules INT-FT5, INT-NFT4, PD-F7, PD-FT7, PD-FCT7, and PD-NFT7 under Rate Order No. WAPA-210.⁹ DSW determined it was not necessary to hold public information or public comment forums on the proposed rates and formula rates extension, but provided a 30-day consultation and comment period to give the public an opportunity to comment on the proposed extension. The consultation and comment period ended on July 24, 2023, and DSW received no comments on the proposed rates and formula rates extension.

⁹ 88 FR 41101 (2023).

Ratemaking Procedure Requirements

Environmental Compliance

WAPA previously determined that this action fits within the following categorical exclusions listed in appendix B to subpart D of 10 CFR 1021.410: B4.3 (Electric power marketing rate changes). Categorically excluded projects and activities do not require preparation of either an environmental impact statement or an environmental assessment.¹⁰ A copy of the categorical exclusion determination is available on WAPA's website at www.wapa.gov/regions/DSW/Environment/Pages/environment.aspx. Look for file entitled, “Rate Order WAPA-210.”

¹⁰ The determination was done in compliance with the National Environmental Policy Act (NEPA) of 1969, as amended, 42 U.S.C. 4321-4347; the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Submission to the Federal Energy Regulatory Commission

The provisional rates and formula rates herein confirmed, approved, and placed into effect on an interim basis, together with supporting documents, will be submitted to FERC for confirmation and final approval.

Order

In view of the above and under the authority delegated to me, I hereby confirm, approve, and place into effect on an interim basis, Rate Order No. WAPA-210, which extends the existing transmission rates and firm electric service and transmission formula rates under Rate Schedules INT-FT5, INT-NFT4, PD-F7, PD-FT7, PD-FCT7, and PD-NFT7 through September 30, 2024. The rates will remain in effect on an interim basis until: (1) FERC confirms and approves this extension on a final basis; (2) subsequent rates are confirmed and approved; or (3) such rates are superseded.

Signing Authority

This document of the Department of Energy was signed on August 24, 2023, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 25, 2023.
Treena V. Garrett,
Federal Register Liaison Officer, U.S. Department of Energy.

Rate Schedule INT-FT5

(Supersedes Rate Schedule INT-FT4)

United States Department of Energy Western Area Power Administration

Desert Southwest Region

Pacific Northwest-Pacific Southwest Intertie Project

Long-Term and Short-Term Firm Point-to-Point Transmission Service (Approved Under Rate Order No. WAPA-157)

Effective

The first day of the first full billing period beginning on or after May 1, 2013, and will remain in effect through September 30, 2018, or until superseded by another rate schedule. [Note: This rate schedule was extended by Rate Order No. WAPA-181 through September 30, 2020, by Rate Order No. WAPA-192 through September 30, 2023, and by Rate Order No. WAPA-210 through September 30, 2024.]

Applicable

To firm point-to-point transmission service customers where capacity and energy are supplied to the Pacific Northwest-Pacific Southwest Intertie Project (Intertie) transmission system at points of interconnection with other systems and transmitted and delivered, less losses, to points of delivery on the Intertie transmission system.

Long-Term Rate

For transmission service of one year or longer, the rate is $19.32 for each kilowatt (kW) per year, payable monthly at the rate of $1.61 for each kW per month.

Short-Term Rates

For transmission service up to one year, the maximum rate for each kW is as follows:

Monthly: $1.61

Weekly: $0.3715

Daily: $0.0529

Hourly: 2.21 mills

Discounts may be offered from time-to-time in accordance with Western's Open Access Transmission Tariff (OATT).

Billing

Western will bill firm point-to-point transmission service customers monthly by applying the rates listed above to the amount of capacity reserved. Payment for long-term transmission service will be required one month in advance of said service.

Character and Conditions of Service

Alternating current at 60 hertz, three-phase, delivered and metered at the voltages and points of delivery established by the service agreement or contract.

Adjustments for Reactive Power

There shall be no entitlement to transfer of reactive kilovolt-amperes at delivery points, except when such transfers may be mutually agreed upon by the customer and Western or their authorized representatives.

Adjustments for Losses: [This Section Was Superseded by Rate Schedule DSW-TL1]

Capacity and energy losses incurred in connection with the transmission and delivery of capacity and energy under this rate schedule shall be supplied by the customer in accordance with the service agreement or contract. If losses are not fully provided by a customer, charges for financial compensation may apply.

Unreserved Use: [This Section Was Superseded by Rate Schedule DSW-UU1]

Western will assess a charge for any unreserved use of the transmission system. Unreserved use occurs when a customer uses transmission service that it has not reserved or uses transmission service in excess of its reserved capacity. Unreserved use may also include a customer's failure to curtail transmission when requested.

The charge for unreserved use is two times the maximum allowable rate for the service at issue, assessed as follows: The penalty for a single hour of unreserved use is based on the daily short-term rate. The penalty for more than one assessment of unreserved use for any given duration (e.g., daily) increases to next longest duration (e.g., weekly). The penalty for multiple instances of unreserved use (e.g., more than one hour) within a day is based on the daily short-term rate. The penalty for multiple instances of unreserved use isolated to one calendar week is based on the weekly short-term rate. The penalty for multiple instances of unreserved use during more than one week in a calendar month is based on the monthly short-term rate.

A customer that exceeds its reserved capacity at any point of receipt or point of delivery, or a customer that uses transmission service at a point of receipt or point of delivery that it has not reserved, is required to pay for all ancillary services that were provided by the Western Area Lower Colorado (WALC) Balancing Authority and associated with the unreserved use. The customer will pay for ancillary services based on the amount of transmission service used and not reserved.

Rate Schedule INT-NFT4

(Supersedes Rate Schedule INT-NFT3)

United States Department of Energy Western Area Power Administration

Desert Southwest Region

Pacific Northwest-Pacific Southwest Intertie Project

Nonfirm Transmission Service

Effective

The first day of the first full billing period beginning on or after May 1, 2013, and will remain in effect through September 30, 2018, or until superseded by another rate schedule. [Note: This rate schedule was extended by Rate Order No. WAPA-181 through September 30, 2020, by Rate Order No. WAPA-192 through September 30, 2023, and by Rate Order No. WAPA-210 through September 30, 2024.]

Applicable

To nonfirm transmission service customers where capacity and energy are supplied to the Northwest-Pacific Southwest Intertie Project (Intertie) transmission system at points of interconnection with other systems and transmitted and delivered, less losses, to points of delivery on the Intertie transmission system.

Rate

The nonfirm transmission service rate is 2.21 mills for each kilowatt per hour. Discounts may be offered from time-to-time in accordance with Western's Open Access Transmission Tariff (OATT).

Billing

Western will bill nonfirm transmission service customers monthly by applying the rate listed above to the amount of capacity reserved.

Character and Conditions of Service

Alternating current at 60 hertz, three-phase, interruptible, delivered and metered at the voltages and points of delivery established by service agreement or in advance by Western. Curtailment conditions shall be determined by Western and in accordance with Western's OATT.

Adjustments for Reactive Power

There shall be no entitlement to transfer of reactive kilovolt amperes at delivery points, except when such transfers may be mutually agreed upon by the customer and Western or their authorized representatives.

Adjustment for Losses: [This Section Was Superseded by Rate Schedule DSW-TL1]

Capacity and energy losses incurred in connection with the transmission and delivery of capacity and energy under this rate schedule shall be supplied by the customer in accordance with the service agreement or contract. If losses are not fully provided by a customer, charges for financial compensation may apply.

Unreserved Use: [This Section Was Superseded by Rate Schedule DSW-UU1]

Western will assess a charge for any unreserved use of the transmission system. Unreserved use occurs when a customer uses transmission service that it has not reserved or uses transmission service in excess of its reserved capacity. Unreserved use may also include a customer's failure to curtail transmission when requested.

The charge for unreserved use is two times the maximum allowable rate for the service at issue, assessed as follows: The penalty for a single hour of unreserved use is based on the daily short-term rate. The penalty for more than one assessment of unreserved use for any given duration (e.g., daily) increases to next longest duration (e.g., weekly). The penalty for multiple instances of unreserved use (e.g., more than one hour) within a day is based on the daily short-term rate. The penalty for multiple instances of unreserved use isolated to one calendar week is based on the weekly short-term rate. The penalty for multiple instances of unreserved use during more than one week in a calendar month is based on the monthly short-term rate.

A customer that exceeds its reserved capacity at any point of receipt or point of delivery, or a customer that uses transmission service at a point of receipt or point of delivery that it has not reserved, is required to pay for all ancillary services that were provided by the Western Area Lower Colorado (WALC) Balancing Authority and associated with the unreserved use. The customer will pay for ancillary services based on the amount of transmission service used and not reserved.

Rate Schedule PD-F7

(Supersedes Schedule PD-F6)

United States Department of Energy Western Area Power Administration

Desert Southwest Region

Parker-Davis Project

Schedule of Rates for Firm Electric Service

Effective

The first day of the first full billing period beginning on or after October 1, 2008, through September 30, 2013, or until superseded, whichever occurs earlier. [Note: This rate schedule was extended by Rate Order No. WAPA-162 through September 30, 2018, by Rate Order No. WAPA-184 through September 30, 2023, and by Rate Order No. WAPA-210 through September 30, 2024.]

Available

In the area served by the Parker-Davis Project (P-DP).

Applicable

To firm electric service customers for firm power service supplied through one meter at one point of delivery, unless otherwise provided by service agreement or contract.

Character and Conditions of Service

Alternating current at 60 hertz, three-phase, delivered and metered at the voltages and points of delivery established by service agreement or contract.

Charges

Energy Charge: Each firm electric service customer shall be billed monthly an energy charge. This charge is equal to the customer's monthly contractual energy reservation multiplied by the Energy Rate, rounded to the penny. The Energy Rate shall be equal to 50 percent of the annual generation revenue requirement divided by the estimated total generation delivery commitments, rounded to two decimal places.

Capacity Charge: Each firm electric service customer shall be billed monthly a capacity charge. This charge is equal to the customer's monthly contractual capacity reservation multiplied by the Capacity Rate, rounded to the penny. The Capacity Rate shall be equal to 50 percent of the annual generation revenue requirement divided by the estimated total generation delivery commitments, rounded to two decimal places.

Transmission Charge: Each firm electric service customer shall be billed monthly a transmission charge. This charge is equal to the customer's contractual reservation multiplied by the rate calculated in accordance with PD-FT7, rounded to the penny.

Lower Basin Development Fund Contribution Charge: The contribution charge is 4.5 mills/kWh for each kWh measured or scheduled to an Arizona purchaser and 2.5 mills/kWh for each kWh measured or scheduled to a California or Nevada purchaser.

Billing of Excess Energy

For each month in which there is excess energy available, offered, and delivered to the firm electric service customer, such excess energy shall be billed at the Energy Rate.

Billing for Unauthorized Overruns: [This Section Was Superseded by Rate Schedule DSW-UU1]

For each month in which there is a contract violation involving an unauthorized overrun of energy and/or capacity, such overruns shall be billed at 10 times the Energy and/or Capacity Rate in this rate schedule. For each month in which there is a contract violation involving an unauthorized overrun of transmission, such overrun shall be billed at two times the Transmission Charge in this rate schedule.

Transformer Losses: [This Section Was Superseded by Rate Schedule DSW-TL1]

If delivery is made at transmission voltage but metered on the low-voltage side of the substation, the meter readings will be increased to compensate for transformer losses as provided for in the contract.

Power Factor

The firm electric service customer will normally be required to maintain a power factor at all points of measurement between 95-percent lagging and 95-percent leading.

Rate Schedule PD-FCT7

(Supersedes Schedule PD-FCT6)

United States Department of Energy Western Area Power Administration

Parker-Davis Project

Schedule of Rate for Firm Transmission Service of Salt Lake City Area/Integrated Projects Power

Effective

The first day of the first full billing period beginning on or after October 1, 2008, through September 30, 2013, or until superseded, whichever occurs earlier. [Note: This rate schedule was extended by Rate Order No. WAPA-162 through September 30, 2018, by Rate Order No. WAPA-184 through September 30, 2023, and by Rate Order No. WAPA-210 through September 30, 2024]

Available

In the area served by the Parker-Davis Project (P-DP).

Applicable

To Salt Lake City Area/Integrated Projects (SLCA/IP) southern division customers, where SLCA/IP capacity and energy are supplied to the P-DP system by the Colorado River Storage Project (CRSP) at points of interconnection with the CRSP system and transmitted and delivered on a unidirectional basis, less losses, to southern division customers at points of delivery on the P-DP system.

Character and Conditions of Service

Alternating current at 60 hertz, three-phase, delivered and metered at the voltages and points of delivery established by service agreement or contract.

Rate

The annual rate for each kilowatt per year is equal to the annual transmission revenue requirement divided by the estimated transmission delivery commitments, rounded to the nearest 12 cent increment. The annual rate is payable monthly at a rate for each kilowatt per month equal to the annual rate divided by 12.

Billing

Western will bill firm transmission service customers monthly by applying the rates under this rate schedule to the amount of capacity reserved. Payment for service will be required one month in advance of said service.

Adjustments for Reactive Power

There shall be no entitlement to transfer of reactive kilovolt-amperes at delivery points, except when such transfers may be mutually agreed upon by the customer and Western or their authorized representatives.

Adjustments for Losses: [This Section Was Superseded by Rate Schedule DSW-TL1]

Capacity and energy losses incurred in connection with the transmission and delivery of capacity and energy under this rate schedule shall be supplied by the customer in accordance with the service agreement or contract.

Overrun of Capacity Reserved: [This Section Was Superseded by Rate Schedule DSW-UU1]

Western will assess a charge for unauthorized use of transmission service at a rate equal to two times the applicable rate for the service at issue. The charge will be applied to use in excess of the reservation amount, which shall be the difference between the amount of transmission service actually used by the customer less the amount of transmission service the customer has reserved. The customer will incur the charge for an overrun during the calendar month or for the period of transmission service if such service is for a term of less than one month.

Rate Schedule PD-FT7

(Supersedes Schedule PD-FT6)

United States Department of Energy Western Area Power Administration

Parker-Davis Project

Schedule of Rates for Firm Point-to-Point Transmission Service

Effective

The first day of the first full billing period beginning on or after October 1, 2008, through September 30, 2013, or until superseded, whichever occurs earlier. [Note: This rate schedule was extended by Rate Order No. WAPA-162 through September 30, 2018, by Rate Order No. WAPA-184 through September 30, 2023, and by Rate Order No. WAPA-210 through September 30, 2024.]

Available

In the area served by the Parker-Davis Project (P-DP).

Applicable

To firm point-to-point transmission service customers where capacity and energy are supplied to the P-DP system at points of interconnection with other systems and transmitted and delivered, less losses, to points of delivery on the P-DP system.

Character and Conditions of Service

Alternating current at 60 hertz, three-phase, delivered and metered at the voltages and points of delivery established by service agreement or contract.

Long-Term Rate

For transmission service one year or longer, the annual rate for each kilowatt per year is equal to the annual transmission revenue requirement divided by the estimated transmission delivery commitments, rounded to the nearest 12 cent increment. The annual rate for long-term service is payable monthly at a rate for each kilowatt per month equal to the annual rate for long-term service divided by 12.

Short-Term Rates

For transmission service up to one year, the maximum rate for each kW is as follows:

Monthly: Equal to the annual long-term rate, divided by 12 and rounded to two decimal places

Weekly: Equal to the annual long-term rate, divided by 52 and rounded to two decimal places

Daily: Equal to the annual long-term rate, divided by 365 and rounded to two decimal places

Hourly: Equal to the annual long-term rate, divided by 8,760 and rounded to five decimal places

Discounts may be offered from time to time in accordance with Western's Open Access Transmission Tariff.

Billing

Western will bill firm point-to-point transmission service customers monthly by applying the rates under this rate schedule to the amount of capacity reserved. Payment for service will be required one month in advance of service.

Adjustments for Reactive Power

There shall be no entitlement to transfer of reactive kilovolt-amperes at delivery points, except when such transfers may be mutually agreed upon by the customer and Western or their authorized representatives.

Adjustments for Losses: [This Section Was Superseded by Rate Schedule DSW-TL1]

Capacity and energy losses incurred in connection with the transmission and delivery of capacity and energy under this rate schedule shall be supplied by the customer in accordance with the service agreement or contract.

Overrun of Capacity Reserved: [This Section Was Superseded by Rate Schedule DSW-UU1]

Western will assess a charge for unauthorized use of transmission service at a rate equal to two times the applicable rate for the service at issue. The charge will be applied to use in excess of the reservation amount, which shall be the difference between the amount of transmission service actually used by the customer less the amount of transmission service the customer has reserved. The customer will incur the charge for an overrun during the calendar month or for the period of transmission service if such service is for a term of less than one month.

Rate Schedule PD-NFT7

(Supersedes Schedule PD-NFT6)

United States Department of Energy Western Area Power Administration

Parker-Davis Project

Schedule of Rate for Nonfirm Transmission Service

Effective

The first day of the first full billing period beginning on or after October 1, 2008, through September 30, 2013, or until superseded, whichever occurs earlier. [Note: This rate schedule was extended by Rate Order No. WAPA-162 through September 30, 2018, and by Rate Order No. WAPA-184 through September 30, 2023, and by Rate Order No. WAPA-210 through September 30, 2024.]

Available

In the area served by the Parker-Davis Project (P-DP).

Applicable

To nonfirm transmission service customers where capacity and energy are supplied to the P-DP system at points of interconnection with other systems and transmitted and delivered, less losses, to points of delivery on the P-DP system.

Character and Conditions of Service

Alternating current at 60 hertz, three-phase, delivered and metered at the voltages and points of delivery established by service agreement or contract.

Rate

The nonfirm transmission service rate for each kilowatt per hour is equal to the annual transmission revenue requirement divided by the estimated transmission delivery commitments, divided by 8,760 and rounded to five decimal places. Discounts may be offered from time to time in accordance with Western's Open Access Transmission Tariff.

Billing

Western will bill nonfirm transmission customers monthly by applying the nonfirm rate under this rate schedule to the amount of capacity reserved.

Adjustments for Reactive Power

There shall be no entitlement to transfer of reactive kilovolt-amperes at delivery points, except when such transfers may be mutually agreed upon by the customer and Western or their authorized representatives.

Adjustments for Losses: [This Section Was Superseded by Rate Schedule DSW-TL1]

Capacity and energy losses incurred in connection with the transmission and delivery of capacity and energy under this rate schedule shall be supplied by the customer in accordance with the service agreement or contract.

[FR Doc. 2023-18737 Filed 8-29-23; 8:45 am]

BILLING CODE 6450-01-P